ENVIRONMENTAL PROTECTION AGENCY

[FRL-7148-1]

Notice of Proposed Administrative Cost Recovery Settlement Pursuant to the Comprehensive Environmental Response, Compensation, and Liability Act

AGENCY: Environmental Protection Agency (EPA).

ACTION: Notice; request for public comment.

SUMMARY: In accordance with section 122(i) of the Comprehensive Environmental Response, Compensation, and Liability Act, as amended (“CERCLA”), notice is hereby given of a proposed administrative cost recovery settlement under section 122(h)(1) of CERCLA concerning the Geneva City Dump site in Geneva, Ohio which was signed by the EPA Superfund Division Director, Region 5, on February 7, 2002. The settlement resolves an EPA claim under section 107(a) of CERCLA against the City of Geneva. The settlement requires the City of Geneva to pay to the Hazardous Substances Superfund $160,000 in two payments. The first 50% payment is due within 30 days of the effective date of the settlement. The second 50% payment is due within one year of the effective date of the settlement or before March 31, 2003, whichever is earlier.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the Superfund Records Center, located at 77 West Jackson Boulevard, Seventh Floor, Chicago, Illinois.

DATES: Comments must be submitted on or before March 25, 2002.

ADDRESSES: The proposed settlement and additional background information relating to the settlement are available for public inspection at the Superfund Records Center, located at 77 West Jackson Boulevard, Seventh Floor, Chicago, Illinois. A copy of the proposed settlement may be obtained from the Superfund Records Center, located at 77 West Jackson Boulevard, Seventh Floor, Chicago, Illinois. Comments should reference the Geneva City Dump site and EPA Docket No. V-W-02-C-676 and should be addressed to Randa Bishlawi, Associate Regional Counsel, 77 West Jackson Boulevard (C-14J), Chicago, Illinois 60604.

FOR FURTHER INFORMATION CONTACT: Randa Bishlawi, Associate Regional Counsel, 77 West Jackson Boulevard (C-14J), Chicago, Illinois 60604.

Dated: February 7, 2002.
Thomas W. Mateer,
Acting Director, Superfund Division, Region 5.

[FR Doc. 02-4141 Filed 2-20-02; 8:45 am]

BILLING CODE 6560-50-P